DEPARTMENT OF TRANSPORTATION

Federal Aviation Administration

14 CFR Part 39

[Docket No. FAA-2005-21683; Directorate Identifier 2005-NM-021-AD]

RIN 2120-AA64

Airworthiness Directives; Fokker Model F27 Mark 200, 400, 500, and 600 Airplanes

AGENCY: Federal Aviation Administration (FAA), Department of Transportation (DOT).

ACTION: Notice of proposed rulemaking (NPRM).

SUMMARY: The FAA proposes to adopt a new airworthiness directive (AD) for certain Fokker Model F27 Mark 200, 400, 500, and 600 airplanes. This proposed AD would require a general visual inspection of the rotary knobs for the fuel tank isolation valves to determine if the seal wire has been installed correctly and corrective actions if necessary. This proposed AD is prompted by investigation of a recent accident, which found that the rotary knobs controlling the fuel tank isolating valves had been in the shut position. We are proposing this AD to ensure that the rotary knobs are not inadvertently moved to the shut position, which could result in fuel starvation to both engines and consequent inability to maintain controlled flight and landing.

DATES: We must receive comments on this proposed AD by July 29, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Fokker Services B.V., P.O. Box 231, 2150 AE Nieuw-Vennep, the Netherlands.

You can examine the contents of this AD docket on the Internet at http://dms.dot.gov, or in person at the Docket Management Facility, U.S. Department of Transportation, 400 Seventh Street, SW., room PL-401, on the plaza level of the Nassif Building, Washington, DC. This docket number is FAA-2005-21683; the directorate identifier for this docket is 2005-NM-021-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed under ADDRESSES. Include “Docket No. FAA-2005-21683; Directorate Identifier 2005-NM-021-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority—The Netherlands (CAA-NL), which is the airworthiness authority for the Netherlands, notified us that an unsafe condition may exist on certain Fokker Model F27 Mark 200, 400, 500, and 600 airplanes. The CAA-NL advises that the rotary knobs controlling the fuel tank isolating valves were found in the shut position during investigation of a recent accident caused by fuel starvation to both engines shortly before takeoff. Although the airplane had been delivered with a seal wire between the two knobs, investigators found no seal wire or holes in the knobs for attaching the seal wire. Other airplanes were found to have the seal wire installed incorrectly. Inadvertently moving the rotary knobs to the shut position, if not prevented, could result in fuel starvation to both engines and consequent inability to maintain controlled flight and landing.

Relevant Service Information

Fokker Services B.V. has issued Fokker Service Bulletin F27/28-67, dated February 23, 2004. The service bulletin describes procedures for doing an inspection of the rotary knobs for the fuel tank isolation valves to determine if the seal wire has been installed correctly, and taking corrective actions if necessary. The corrective actions include the following actions:

• If the holes are positioned incorrectly or are not drilled, drilling two holes in each rotary knob and reidentifying the knobs as P/N Y00092-401.

• If the seal wire is installed incorrectly, installing the seal wire from the bottom hole in the left rotary knob to the top hole in the right rotary knob with the knobs in the open position.

• If the seal wire is installed correctly, installing a placard between the rotary knobs.

The service bulletin also specifies the following:

• Contacting the manufacturer after accomplishing the service bulletin.

• Incorporating the changes specified in Fokker Services Manual Change Notification MCNO F27-020, dated February 23, 2004, into the airplane maintenance manual.

Accomplishing the actions specified in the service information is intended to adequately address the unsafe condition. The CAA-NL mandated the service information and issued Dutch airworthiness directive 2004-037 R1, dated April 14, 2005, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are proposing this AD, which would require accomplishing the actions specified in the service information described previously, except as discussed under “Differences Between the Proposed AD and the Dutch Airworthiness Directive.”

Differences Between the Proposed AD and the Dutch Airworthiness Directive

The applicability of Dutch airworthiness directive 2004-037 R1 excludes airplanes on which Fokker Service Bulletin F27/28-58, dated May 12, 1986, has been accomplished. However, we have not excluded those airplanes in the applicability of this proposed AD; rather, this proposed AD includes credit for the actions specified in that service bulletin. Operators must continue to operate the airplane in the configuration required by this proposed AD unless an alternative method of compliance is approved. This difference has been coordinated with the CAA-NL.

Dutch airworthiness directive 2004-037 R1 requires incorporating the changes specified in Fokker Services Manual Change Notification MCNO F27-018, dated December 1, 2003, into the airplane flight manual, and the changes specified in Fokker Services Manual Change Notification MCNM F27-020, dated February 23, 2004, into the airplane maintenance manual. Fokker Services Manual Change Notification MCNO F27-018 adds items to the taxiing checklist to advise the pilot to verify if the seal wire is installed. Fokker Services Manual Change Notification MCNM F27-020 adds information to advise maintenance personnel to verify that the seal wire is installed. We have determined that incorporation of these changes to the airplane flight and maintenance manuals is not necessary for adequately addressing the unsafe condition of this AD. This difference also has been coordinated with the CAA-NL.

Although the Accomplishment Instructions of Fokker Service Bulletin F27/28-67 describe procedures for informing the manufacturer of accomplishment of the service bulletin, this proposed AD would not require those actions. We do not need this information from operators.

Clarification of Inspection Terminology

The “inspection” specified in the Fokker service bulletin is referred to as a “general visual inspection” in this proposed AD. We have included the definition for a general visual inspection in a note in the proposed AD.

Costs of Compliance

This proposed AD would affect about 1 airplane of U.S. registry. The proposed actions would take about 2 work hours per airplane, at an average labor rate of $65 per work hour. Based on these figures, the estimated cost of the proposed AD for the one U.S. operator is $130.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2005-21683; Directorate Identifier 2005-NM-021-AD.

Comments Due Date

(a) The Federal Aviation Administration must receive comments on this AD action by July 29, 2005.

Affected ADs

(b) None.

Applicability

(c) This AD applies to Fokker Model F27 Mark 200, 400, 500, and 600 airplanes, certificated in any category; serial numbers 10505 through 10591 inclusive; not equipped with inboard wing fuel tanks.

Unsafe Condition

(d) This AD was prompted by investigation of a recent accident, which found that the rotary knobs controlling the fuel tank isolating valves had been in the shut position. We are issuing this AD to ensure that the rotary knobs are not inadvertently moved to the shut position, which could result in fuel starvation to both engines and consequent inability to maintain controlled flight and landing.

Compliance

(e) You are responsible for having the actions required by this AD performed within the compliance times specified, unless the actions have already been done.

Inspection and Corrective Action if Applicable

(f) Within 3 months after the effective date of this AD, do a general visual inspection of the rotary knobs for the fuel tank isolation valves to determine if the seal wire is installed correctly and do the corrective action(s) as applicable, in accordance with the Accomplishment Instructions of Fokker Service Bulletin F27/28-67, dated February 23, 2004. Do the applicable corrective actions before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Credit for Alternative Method of Compliance

(g) Actions done before the effective date of this AD in accordance with Fokker Service Bulletin F27/28-58, dated May 12, 1986, are acceptable for compliance with the requirements of paragraph (f) of this AD.

Parts Installation

(h) As of the effective date of this AD, no person may install a rotary knob having part number E16032-3, 10632-10003, or P80-004 on any airplane, unless the corrective actions specified in paragraph (f) of this AD have been accomplished.

No Reporting Requirement

(i) Although the service bulletin referenced in this AD specifies to submit certain information to the manufacturer, this AD does not include that requirement.

Alternative Methods of Compliance (AMOCs)

(j) The Manager, International Branch, ANM-116, Transport Airplane Directorate, FAA, has the authority to approve AMOCs for this AD, if requested in accordance with the procedures found in 14 CFR 39.19.

Related Information

(k) Dutch airworthiness directive 2004-037 R1, dated April 14, 2005, also addresses the subject of this AD.

Issued in Renton, Washington, on June 21, 2005.
Ali Bahrami,
Manager, Transport Airplane Directorate, Aircraft Certification Service.

[FR Doc. 05-12838 Filed 6-28-05; 8:45 am]

BILLING CODE 4910-13-P